ENVIRONMENTAL PROTECTION AGENCY

[ER-FRL-6679-1]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 7, 2006 (71 FR 17845).

Draft EISs

EIS No. 20060138, ERP No. D-BLM-K65305-CA, United States Gypsum Expansion/Modernization Project, Expand and Upgrade Plaster City Plant to Increase Wallboard Production Capacity with Related Increases in Water Supply, Right-of-Way Grant, Imperial County, CA.

Summary: EPA expressed environmental concerns about impacts to watershed resources, including water quality and habitat, groundwater quality and quantity, and air quality and that these impacts should be avoided or mitigated. Rating EC2.

EIS No. 20060205, ERP No. D-AFS-D65036-PA, Allegheny National Forest, Proposed Revised Land and Resource Management Plan, Implementation, Elk, Forest, McKean, and Warren Counties, PA.

Summary: EPA expressed environmental concerns about potential adverse impacts to water quality and aquatic and terrestrial resources. Management activities of most concern include oil, gas, mineral extraction, and associated infrastructure, especially roads. The final EIS should further minimize impacts or include adequate mitigation measures to reduce sedimentation, habitat loss and fragmentation. Rating EC2.

EIS No. 20060258, ERP No. D-FRC-L05236-OR, Clackamas River Hydroelectric Project, Application for Relicensing of a Existing 173 megawatt(MS) Project, (FERC No. 2195-011) Clackamas River Basin, Clackamas County, OR.

Summary: EPA expressed environmental concerns about potential exceedance of the temperature water quality standard and requested additional information on dissolved oxygen in salmonid spawning and rearing areas. Rating EC2.

Final EISs

EIS No. 20060254, ERP No. F-FHW-C40166-NY, Southtowns Connector/Buffalo Outer Harbor Project, Improvements on the NY Route 5 Corridor from Buffalo Skyway Bridge to NY Route 179, in the City of Buffalo, City of Lackawanna and Town of Hamburg, Erie County, NY.

Summary: EPA does not object to the preferred alternative.

EIS No. 20060302, ERP No. F-NPS-E65077-FL, Fort King National Historic Landmark, Special Resource Study, Implementation, Second Seminole War Site, City of Ocala, Marion County, FL.

Summary: EPA does not object to the proposed project.

EIS No. 20060310, ERP No. F-IBR-G31003-NM, Long-Term Miscellaneous Purposes Contract Abstract, To Use Carlsbad Project Water for Purposes Other than Irrigation, Eddy County, NM.

Summary: No formal comment letter was sent to the preparing agency.

Dated: September 5, 2006.
Ken Mittelholtz,
Environmental Protection Specialist, Office of Federal Activities.

[FR Doc. E6-14887 Filed 9-7-06; 8:45 am]

BILLING CODE 6560-50-P